DEPARTMENT OF COMMERCE

National Oceanic and Atmospheric Administration

[RTID 0648-XD404]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person meeting of its Shrimp Advisory Panel (AP).

DATES: The meeting will convene Thursday, October 19, 2023, from 8:30 a.m. to 5 p.m., EDT. For agenda details, see SUPPLEMENTARY INFORMATION.

ADDRESSES: The meeting will take place at the Gulf Council office. Registration information will be available on the Council's website by visiting www.gulfcouncil.org and clicking on the Shrimp AP meeting on the calendar.

Council address: Gulf of Mexico Fishery Management Council, 4107 W. Spruce Street, Suite 200, Tampa, FL 33607; telephone: (813) 348-1630.

FOR FURTHER INFORMATION CONTACT: Dr. Matt Freeman, Economist, Gulf of Mexico Fishery Management Council; matt.freeman@gulfcouncil.org; telephone: (813) 348-1630.

SUPPLEMENTARY INFORMATION: The following items are on the agenda, though agenda items may be addressed out of order (changes will be noted on the Council's website when possible.)

Thursday, October 19, 2023; 8:30 a.m.-5 p.m. EST (7:30 a.m.-4 p.m. CST).

Meeting will begin with Adoption of Agenda, Approval of Summaries from the March 15-16, 2023, meeting and the May 18, 2023, meeting, and Scope of Work. The AP will review and discuss Council Actions in Response to Motions from the April and May 2023 Shrimp AP Meetings, receive a presentation on National Marine Fisheries Service (NMFS) cellular vessel monitoring system Project, discuss a collaborative path forward to Understand Inshore Shrimping Effort to Inform Sea Turtle Restoration Efforts in the Gulf of Mexico.

The AP will receive updates from Bureau of Ocean Energy Management (BOEM) on Gulf Wind Energy, on re-initiation of Shrimp Biological Opinion due to Sawfish and Giant Manta Rays, and on Endangered Species Act Listing and Critical Habitat Rule.

The AP will review and discuss SEDAR 87 Assessment update for Brown, White and Pink Shrimp and receive information update on Deepwater Horizon Natural Resource and Damage Assessment projects.

Lastly, the AP will receive any public testimony and discuss other business items.

Meeting Adjourns—

The in-person meeting will be broadcast via webinar. You may register by visiting www.gulfcouncil.org and clicking on the Shrimp Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take-action to address the emergency at least 5 working days prior to the meeting.

Special Accommodations

The meeting is physically accessible to people with disabilities. Requests for sign language interpretation or other auxiliary aid or accommodations should be directed to Kathy Pereira, kathy.pereira@gulfcouncil.org, at least 5 days prior to the meeting date.

Authority: 16 U.S.C. 1801 et seq.

Dated: September 22, 2023.
Rey Israel Marquez,
Acting Deputy Director, Office of Sustainable Fisheries, National Marine Fisheries Service.

[FR Doc. 2023-21060 Filed 9-26-23; 8:45 am]

BILLING CODE 3510-22-P